DEPARTMENT OF JUSTICE

Notice of Lodging of Proposed Amendment To Consent Decree Under the Clean Air Act

On September 20, 2013, the Department of Justice lodged a proposed Amendment to Consent Decree with the United States District Court for the Eastern District of Texas in the lawsuit entitled United States v. Total Petrochemicals USA, Inc., Civil Action No. 07-cv-00248-MAC.

The United States filed this lawsuit, along with a Consent Decree resolving the claims in the complaint, in 2007. The United States' complaint sought injunctive relief and civil penalties for violations of the Clean Air Act at the defendant's petroleum refinery in Port Arthur, Texas. The consent decree required the defendant to perform injunctive relief and pay a civil penalty. The Amendment to Consent Decree resolves various violations of the 2007 Consent Decree. The Amendment, along with a Stipulation and Order filed therewith, requires the defendant to perform additional injunctive relief and pay a $8,750,000 stipulated penalty.

The publication of this notice opens a period for public comment on the Amendment to Consent Decree. Comments should be addressed to the Assistant Attorney General, Environment and Natural Resources Division, and should refer to United States v. Total Petrochemicals USA, Inc., D.J. Ref. No. 90-5-2-1-08283/3. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Amendment to Consent Decree may be examined and downloaded at this Justice Department Web site: http://www.usdoj.gov/enrd/Consent_Decrees.html. We will provide a paper copy of the Amendment to Consent Decree upon written request and payment of reproduction costs. Please mail your request and payment to: Consent Decree Library, U.S. DOJ—ENRD, P.O. Box 7611, Washington, DC 20044-7611.

Please enclose a check or money order for $4.75 (25 cents per page reproduction cost) payable to the United States Treasury.

Thomas P. Carroll,
Assistant Section Chief, Environmental Enforcement Section, Environment and Natural Resources Division.

[FR Doc. 2013-23396 Filed 9-25-13; 8:45 am]

BILLING CODE 4410-15-P